DEPARTMENT OF ENERGY

Federal Energy Regulatory Commission

[Docket No. EG00-100-000, et al.]

Central Generadora Electrica San Jose, Limitada, et al.; Electric Rate and Corporate Regulation Filings

February 23, 2000.

Take notice that the following filings have been made with the Commission:

1. Central Generadora Eléctrica San José, Limitada

[Docket No. EG00-100-000]

Take notice that on February 18, 2000 Central Generadora Eléctrica San José, Limitada (Central) with its principal office c/o TECO Power Services Corporation, 702 North Franklin Street, Tampa, Florida 33602, filed with the Commission an application for determination of exempt wholesale generator status pursuant to Part 365 of the Commission's regulations.

Central states that it is a Sociedad de Responsibilidad Limitada organized under the laws of Guatemala. Central will be engaged directly and exclusively in the business of owning and operating an approximately 120 MW electric generating facility located in the area of Masagua, Department of Escuintla, Guatemala. Electric energy produced by the facility will be sold at wholesale or at retail exclusively to foreign consumers.

Comment date: March 15, 2000, in accordance with Standard Paragraph E at the end of this notice. The Commission will limit its consideration of comments to those that concern the adequacy or accuracy of the application.

2. ISO New England Inc.

[Docket No. ER98-3554-004]

Take notice that on February 17, 2000, ISO New England Inc. (the ISO) filed a Compliance Report detailing refunds made pursuant to the settlement of the ISO's Tariff for Transmission Dispatch and Power Administration Services, a request for privileged treatment of the information contained in the Compliance Report and request for partial waiver of the Commission order regarding the Compliance Report.

Copies of said filing have been served upon all parties to this proceeding, all Participants in the New England Power Pool (NEPOOL) and all non-Participant entities that are customers under the NEPOOL Open Access Transmission Tariff, as well as, on the governors and utility regulatory agencies of the six New England States.

Comment date: March 9, 2000, in accordance with Standard Paragraph E at the end of this notice.

3. The Alliance Companies:

[Docket Nos. ER99-3144-002 and EC99-80-002 (not consolidated)]

American Electric Power Service Corporation on behalf of Appalachian Power Company, Indiana Michigan Power Company, Kentucky Power Company, Kingsport Power Company, Ohio Power Company, and Wheeling Power Company; Consumers Energy Company; The Detroit Edison Company;

FirstEnergy Corp. on behalf of The Cleveland Electric Illuminating Company, Ohio Edison Company, Pennsylvania Power Company, and The Toledo Edison Company; Virginia Electric and Power Company

Take notice that on February 18, 2000, the Alliance Companies (American Electric Power Service Corporation, Consumers Energy Company, The Detroit Edison Company, FirstEnergy Corp. and Virginia Electric and Power Company) on behalf of themselves and their public utility operating company subsidiaries submitted a transmittal letter and attached documents in compliance with the December 20, 1999 Order On Proposed Disposition and Related Rate Filings (Order) in the above-referenced proceedings. The filing provides explanation for certain aspects of the Applicants' proposal as required by the Order, modifications to the proposed ISO Bylaws, modifications to the Transco Term Sheet and modifications to the Operating Protocol.

The Alliance Companies state that copies of this filing have been served on each person designated on the official service list.

Comment date: March 10, 2000, in accordance with Standard Paragraph E at the end of this notice.

4. Consumers Energy Company

[Docket No. ER00-1651-000]

Take notice that on February 18, 2000, Consumers Energy Company (Consumers), tendered for filing an executed service agreement for Firm Point-to-Point Transmission Service with Northern Indiana Public Service Company.

The agreement was pursuant to the Joint Open Access Transmission Service Tariff filed on December 31, 1996 by Consumers and The Detroit Edison Company (Detroit Edison) and has an effective date of February 2, 2000.

Copies of the filed agreement were served upon the Michigan Public Service Commission, Detroit Edison, and Northern Indiana Public Service Company.

Comment date: March 10, 2000, in accordance with Standard Paragraph E at the end of this notice.

5. Central Power and Light Company, Public Service Company of Oklahoma, Southwestern Electric Power Company, and West Texas Utilities Company

[Docket No. ER00-1652-000]

Take notice that on February 18, 2000, Central Power and Light Company (CPL), Public Service Company of Oklahoma (PSO), Southwestern Electric Power Company (SWEPCO), and West Texas Utilities Company (WTU) (collectively, the CSW Operating Companies) tendered for filing transmission and ancillary services agreements under the CSW Operating Companies' Open Access Transmission Tariff with FPL Energy Power Marketing, Inc. (FPL Energy).

The CSW Operating Companies seek an effective date of January 21, 2000 for the agreements.

Copies of the filing were served on FPL Energy and the Public Utility Commission of Texas.

Comment date: March 10, 2000, in accordance with Standard Paragraph E at the end of this notice.

6. Illinova Power Marketing, Inc.

[Docket No. ER00-1653-000]

Take notice that on February 18, 2000, Illinova Power Marketing, Inc. (IPMI), tendered for filing Electric Power Transaction Service Agreements under which certain customers will take service pursuant to IPMI's power sales tariff, Rate Schedule FERC No. 1.

Copies of this filing have been served upon each purchaser.

Comment date: March 10, 2000, in accordance with Standard Paragraph E at the end of this notice.

7. Coral Power, L.L.C.

[Docket No. ER00-1654-000]

On February 18, 2000, Coral Power, L.L.C. (Coral), a limited liability company formed under the laws of Delaware, tendered for filing a petition for acceptance of revisions to its market-based rate schedule to provide for the sale of ancillary services and firm transmission rights.

Coral also requested waiver of the 60-day notice requirement.

Comment date: March 10, 2000, in accordance with Standard Paragraph E at the end of this notice.

8. Southern Company Services, Inc.

[Docket No. ER00-1655-000]

Take notice that on February 18, 2000, Southern Company Services, Inc. (SCSI), acting as agent for Alabama Power Company, Georgia Power Company, Gulf Power Company, Mississippi Power Company, and Savannah Electric and Power Company (collectively referred to as the Operating Companies), tendered for filing the amended and restated Southern Company System Intercompany Interchange Contract (IIC) dated February 17, 2000. The amended and restated IIC incorporates previously approved amendments, simplifies and streamlines the contract, recognizes an internal organizational change, and adopts several revisions that are intended to promote equitable treatment among the participants. In addition, SCSI submitted revisions to the Operating Companies' Market Based Rate Power Sales Tariff to reflect this same organizational change and to update references to the interest calculation and to the Open Access Transmission Tariff.

SCSI requests an effective date of April 18, 2000 for this submittal.

Comment date: March 10, 2000, in accordance with Standard Paragraph E at the end of this notice.

9. Deseret Generation & Transmission Co-operative

[Docket No. ER00-1660-000]

Take notice that Deseret Generation & Transmission Co-operative on February 18, 2000, tendered for filing a Wholesale Power Agreement For Large Industrial Loads [Implementing Deseret Rate Schedule ML-“PC1”] between Deseret Generation & Transmission Co-operative and Moon Lake Electric Association, Inc. The Agreement supercedes Supplement No. 8 to Service Agreement No. 5 under FERC Electric Tariff, Original Volume No. 1, and Supplements No. 1 and 2 thereto. The proposed change would result in a rate decrease in accordance with the provisions of the current rate schedules contained in Supplement No. 8 to Service Agreement No. 5 under FERC Electric Tariff, Original Volume 1, and Supplements No. 1 and 2 thereto.

The proposed change is being made by agreement of the parties and pursuant to the provisions of Service Agreement No. 5 under FERC Electric Tariff, Original Volume No. 1 which is already on file with the Commission.

Copies of this filing have been served upon Deseret's member cooperatives.

Comment date: March 10, 2000, in accordance with Standard Paragraph E at the end of this notice.

Standard Paragraphs

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-4990 Filed 3-1-00; 8:45 am]

BILLING CODE 6717-01-P